DEPARTMENT OF JUSTICE

[AAG/A Order No. 217-2001]

Privacy Act of 1974; System of Records

Pursuant to the provisions of the Privacy Act of 1974, 5 U.S.C. 552a, notice is given that the Department of Justice proposes to modify the following systems of records:

AAG-001 | General Files System | 3-10-92 | 57 FR 8475
ATR-001 | Antitrust Division Expert Witness File | 10-13-89 | 54 FR 42061
ATR-002 | Congressional and White House Referral Correspondence Log | 2-3-93 | 58 FR 6985
ATR-003 | Index of Defendants in Pending and Terminated Antitrust Cases | 10-10-95 | 60 FR 52690
ATR-004 | Statement by Antitrust Division Officials (ATD Speech File) | 10-10-95 | 60 FR 52691
ATR-005 | Antitrust Caseload Evaluation System (ACES)—Time Reporter | 10-17-88 | 53 FR 40502
ATR-006 | Antitrust Caseload Evaluation System (ACES)—Monthly Report | 2-20-98 | 63 FR 8659
ATR-007 | Antitrust Division Case Cards | 10-10-95 | 60 FR 52692
ATR-008 | Freedom of Information/Privacy Requestor Subject Index File | 10-10-95 | 60 FR 52693
ATR-009 | Public Complaints and Inquiries File | 11-17-80 | 45 FR 75902
ATR-014 | Civil Investigative Demand (CID) Tracking System | 10-10-95 | 60 FR 52694
BIA-001 | Decisions of the Board of Immigration Appeals | 30350 | 48 FR 5331
BIA-002 | Roster of Organizations and Their Accredited Representatives Recognized by the Board of Immigration Appeals | 11-17-80 | 45 FR 75908
BOP-001 | Custodial and Security Record System | 9-28-78 | 43 FR 44732
BOP-002 | Freedom of Information Act Record System | 9-30-77 | 42 FR 53291
BOP-003 | Industrial Inmate Employment Record System | 9-28-78 | 43 FR 44733
BOP-004 | Inmate Administrative Remedy Record System | 9-28-78 | 43 FR 44734
BOP-005 | Inmate Central Records System | 6-7-84 | 49 FR 23711
BOP-006 | Inmate Commissary Accounts Record System | 9-30-77 | 42 FR 53294
BOP-007 | Inmate Physical and Mental Health Record System | 9-28-78 | 43 FR 44735
BOP-008 | Inmate Safety and Accident Compensation Record System | 9-28-78 | 43 FR 44736
BOP-009 | Federal Tort Claims Act Record System | 9-28-78 | 43 FR 44737
BOP-010 | Access Control Entry/Exit System | 10-4-95 | 60 FR 52013
BOP-011 | Telephone Activity Record System | 4-21-95 | 60 FR 19958
BOP-012 | Office of Internal Affairs Investigative Records | 8-29-95 | 60 FR 44901
BOP-014 | Employee Assistance Program (EAP) Record System | 7-31-00 | 65 FR 46739
BOP-101 | The National Institute of Corrections Technical Resource Provider Record System | 3-2-00 | 65 FR 11342
BOP-102 | The National Institute of Corrections Field Readers List | 4-18-83 | 48 FR 16656
BOP-103 | National Institute of Corrections Academy Record System | 12-16-99 | 64 FR 70286
BOP-104 | National Institute of Corrections Mailing List & Information Center Contacts Records System | 12/16/99 | 64 FR 70287
CIV-001 | Civil Division Case File System | 2-20-98 | 63 FR 8659
CIV-002 | Civil Division Case File System: Customs Litigation | 1-10-80 | 45 FR 2217
CIV-003 | Office of Alien Property File System | 9-30-77 | 42 FR 53324
CIV-004 | Swine Flu Administrative Claim File System | 9-28-78 | 43 FR 44708
CIV-005 | Freedom of Information/Privacy Acts File System | 10-17-88 | 53 FR 40505
CIV-006 | Consumer/Inquiry Investigatory System | 10-17-88 | 53 FR 40506
CIV-007 | Congressional and Citizen Correspondence File | 10-17-88 | 53 FR 40507
COPS-001 | Police Corps System | 1-8-97 | 62 FR 1131
CRM-001 | Central Criminal Division Index File and Associated Records | 2-20-98 | 63 FR 8659
CRM-002 | Criminal Division Witness Security File | 12-11-87 | 52 FR 47186
CRM-003 | File of Names Checked to Determine if those Individuals Have been the Subject of an Electronic Surveillance | 12-11-87 | 52 FR 47187
CRM-004 | General Crimes Section, Criminal Division, Central Index File and Associated Records | 12-11-87 | 52 FR 47190
CRM-005 | Index to Names of Attorneys Employed by the Criminal Division, U.S. Department of Justice, Indicating the Subject of the Memoranda on Criminal Matters They Have Written | 12-11-87 | 49 FR 47191
CRM-006 | Information File on Individuals and Commercial Entities Known or Suspected of Being Involved in Fraudulent Activities | 9-30-77 | 42 FR 53336
CRM-007 | Name Card File on Criminal Division Personnel Authorized to have Access to the Central Criminal Division Records | 12-11-87 | 52 FR 47192
CRM-008 | Name Card File on Department of Justice Personnel Authorized to have Access to the Classified Files of the Department of Justice | 12-11-87 | 52 FR 47193
CRM-012 | Organized Crime and Racketeering Section, General Index File and Associated Records | 11-26-90 | 55 FR 49147
CRM-014 | Organized Crime and Racketeering Section, Intelligence and Special Services Unit, Information Request System | 9-30-77 | 42 FR 53343
CRM-017 | Registration and Propaganda Files Under the Foreign Agents Registration Act of 1938, As Amended | 5-11-88 | 53 FR 16794
CRM-018 | Registration Files of Individuals Who Have Knowledge of or Have Received Instruction or Assignment in Espionage, Counterespionage, or Sabotage Service or Tactics of a Foreign Government or of a Foreign Political Party | 12-11-87 | 52 FR 47197
CRM-019 | Requests to the Attorney General for Approval of Applications to Federal Judges for Electronic Interceptions | 12-11-87 | 52 FR 47198
CRM-021 | The Stocks and Bonds Intelligence Control Card File System | 12-11-87 | 52 FR 47199
CRM-022 | Witness Immunity Records | 12-11-87 | 52 FR 47200
CRM-023 | Weekly Statistical Report | 1-10-80 | 45 FR 2195
CRM-024 | Freedom of Information/Privacy Act Records | 12-11-87 | 52 FR 47201
CRM-025 | Tax Disclosure Index File and Associated Records | 12-11-87 | 52 FR 47202
CRM-026 | Index of Prisoners Transferred Under Prisoner Transfer Treaties | 12-11-87 | 52 FR 47203
CRM-027 | Office of Special Investigation (OSI) Displaced Persons Listings | 12-11-87 | 52 FR 47204
CRS-001 | Operational Data Information System | 1-10-80 | 45 FR 2220
CRT-001 | Central Civil Rights Division Index File and Associated Records | 2-20-98 | 63 FR 8659
CRT-002 | Files of Applications for the Position of Attorney with the Civil Rights Division | 12-17-85 | 50 FR 51482
CRT-003 | Civil Rights Case Load Evaluation System—Time Reporting System | 10-17-88 | 53 FR 40510
CRT-004 | Registry of Names of Interested Persons Desiring Notifications of Submissions Under Section 5 of the Voting Rights Act | 10-17-88 | 53 FR 40511
CRT-007 | Files on Employment Civil Rights Matters Referred by the Equal Employment Opportunity Commission | 10-17-88 | 53 FR 40512
CRT-008 | Files on Correspondence Relating to Civil Rights Matters From Persons Outside the Department of Justice | 10-17-88 | 53 FR 40513
CRT-009 | Civil Rights Division Travel Reports | 10-17-88 | 53 FR 40514
CRT-010 | Freedom of Information; Privacy Act Records | 10-17-88 | 57 FR 40515
DAG-003 | Drug Enforcement Task Force Evaluation Reporting System | 3-10-92 | 57 FR 8473
DAG-004 | Honor Program Applicant System | 10-21-85 | 50 FR 42605
DAG-005 | Master Index File of Names | 10-21-85 | 50 FR 42606
DAG-006 | Presidential Appointee Candidate Records System | 10-21-85 | 50 FR 42607
DAG-007 | Presidential Appointee Records System | 10-21-85 | 50 FR 42608
DAG-008 | Special Candidates for Presidential Appointments and Noncareer SES Positions Records System | 8-31-94 | 59 FR 45005
DAG-009 | Summer Intern Program Records System | 10-21-85 | 50 FR 42611
DAG-010 | United States Judge and Department of Justice Presidential Appointee Records | 10-21-85 | 50 FR 42612
DAG-011 | Miscellaneous Attorney Personnel Records | 10-21-85 | 50 FR 42613
DAG-012 | Executive Secretariat Correspondence Control System | 10-21-85 | 50 FR 42614
DAG-013 | General Files System | 3-10-92 | 57 FR 8475
DEA-001 | Air Intelligence Program | 12-11-87 | 52 FR 47206
DEA-INS-111 | Automated Intelligence Records System (Pathfinder) | 11-26-90 | 55 FR 49182
DEA-003 | Automated Records and Consolidated Orders System/Diversion Analysis and Detection System (ARCOS/DADS) | 04-28-00 | 65 FR 24986
DEA-004 | Congressional Correspondence File | 12-11-87 | 52 FR 47207
DEA-005 | Controlled Substances Act Registration Records (CSA) | 12-11-87 | 52 FR 47208
DEA-006 | Freedom of Information/Privacy Act Records | 12-11-87 | 42 FR 47209
DEA-008 | Investigative Reporting and Filing System | 10-17-96 | 61 FR 54219
DEA-010 | Planning and Inspection Division Records | 12-11-87 | 52 FR 47213
DEA-011 | Operations Files | 12-11-87 | 52 FR 47214
DEA-012 | Registration Status/Investigation Records | 12-11-87 | 52 FR 47215
DEA-013 | Security Files | 12-11-87 | 52 FR 47215
DEA-015 | Training Files | 12-11-87 | 52 FR 47217
DEA-017 | Grants of Confidentiality File (GCF) | 12-11-87 | 52 FR 47218
DEA-020 | Essential Chemical Reporting System | 12-11-87 | 52 FR 47219
DEA-021 | DEA Aviation Unit Reporting System | 4-28-00 | 65 FR 24986
DOJ-001 | Accounting Systems for the Department of Justice | 5-28-99 | 64 FR 29069
DOJ-002 | DOJ Computer Systems Activity and Access Records | 12-30-99 | 64 FR 73585
EOIR-001 | Record and Management Information System | 10-10-95 | 60 FR 52694
EOIR-003 | Practitioner Complaint/Disciplinary Files | 9-10-99 | 64 FR 49237
FBI-001 | National Crime Information Center (NCIC) | 9-28-99 | 64 FR 52343
FBI-002 | The FBI Central Records System | 2-20-98 | 63 FR 8671
FBI-003 | Bureau Mailing Lists | 10-5-93 | 52 FR 51872
FBI-006 | Electronic Surveillance (Elsur) Indices | 3-10-92 | 52 FR 8482
FBI-007 | FBI Automated Payroll System | 10-5-93 | 58 FR 51874
FBI-008 | Personnel Information Network System (PINS) | 10-5-93 | 58 FR 51875
FBI-009 | Fingerprint Identification Records System (FIRS) | 9-28-99 | 64 FR 52347
FBI-010 | Employee Travel Vouchers and Individual Earning Records | 12-11-87 | 52 FR 47248
FBI-011 | Employee Health Records | 10-5-93 | 58 FR 51875
FBI-012 | Time Utilization Record-Keeping (TURK) System | 10-5-93 | 58 FR 51876
FBI-013 | Security Access Control System (SACS) | 10-5-93 | 58 FR 51877
FBI-014 | FBI Alcoholism Program | 12-11-87 | 52 FR 47251
FBI-015 | National Center for the Analysis of Violent Crime (NCAVC) | 10-5-93 | 58 FR 51879
FBI-016 | FBI Counterdrug Information Indices System (CIIS) | 6-9-94 | 59 FR 29824
FBI-017 | National DNA Index System (NDIS) | 7-18-96 | 61 FR 37495
FBI-018 | National Instant Criminal Background Check System (NICS) | 11-25-98 12-14-00 | 63 FR 65223 65 FR 78190
INS-001 | The Immigration and Naturalization Service Index System | 10-5-93 | 58 FR 51847
INS-001A | The Immigration and Naturalization Service (INS) Alien File (A-File) and Central Index System (CIS) | 7-8-97 | 62 FR 36572
INS-002 | Office of Internal Audit Investigations Index and Records | 3-7-97 | 62 FR 10580
INS-004 | The Asset Management Information System (AMIS) | 4-27-98 | 63 FR 20651
INS-007 | Orphan Petitioner Index and Files | 12-11-87 | 52 FR 47258
INS-008 | Bond Management Information System (BMIS) | 12-18-98 | 63 FR 70159
INS-009 | Alien Status Verification Index | 10-10-95 | 60 FR 52697
INS-010 | Freedom of Information Act/Privacy Act (FOIA/PA) Case Tracking and Reporting System | 10-10-95 | 60 FR 52698
INS-011 | The Password Issuance and Control System (PICS) | 3-2-89 | 54 FR 8837
INS-012 | Deportable Alien Control System (DACS) | 7-31-00 | 65 FR 46738
INS-013 | Computer Linked Application Information Management System | 11-4-97 | 62 FR 59734
INS-014 | Security Access Control System (SACS) | 5-10-90 | 55 FR 19674
INS-015 | Port of Entry Office Management Support System | 6-14-90 | 55 FR 24167
INS-016 | Secondary Verification Automated LOG (SVAL) | 10-10-95 | 60 FR 52699
INS-017 | Global Enrollment System (GES) | 3-13-97 | 62 FR 11919
INS-019 | Employee Assistance Program (EAP) Treatment Referral Records | 1-22-98 | 63 FR 3349
INS-021 | Designated Entity Information Management System (DEIMS) | 7-22-97 | 62 FR 39256
INS-022 | INS Attorney/Representative Complaint/Petition Files | 12-16-99 | 64 FR 70288
INS-023 | Law Enforcement Support Center Database (LESC) | 5-14-97 | 62 FR 26555
INS-024 | The FD-258 Fingerprint Tracking System | 7-31-00 | 65 FR 46741
INS-025 | Worksite Enforcement Activity Record & Index (LYNX) | 12-16-99 | 64 FR 70288, 70290
INS-026 | Hiring Tracking System | 12-16-99 | 64 FR 70288, 70291
INTERPOL-001 | The INTERPOL-United States National Central Bureau (INTERPOL-USNCB) (Department of Justice) INTERPOL-USNCB Records System | 3-10-92 | 57 FR 8486
JMD-001 | Background Investigation Check-off Card | 10-13-89 | 54 FR 42085
JMD-002 | Controlled Substances Act Nonpublic Records | 11-17-80 | 45 FR 75931
JMD-003 | Department of Justice Payroll System | 4-13-99 9-01-00 | 64 FR 18051-056 65 FR 53225
JMD-005 | Grievance Records | 10-13-89 | 54 FR 42086
JMD-006 | Debt Collection Management System | 11-12-93 | 58 FR 60055
JMD-007 | Accounting System for the Offices, Boards and Divisions and the United States Marshals Service | 12-11-87 | 52 FR 47268
JMD-008 | Security Clearance Information System (SCIS) | 8-23-90 | 55 FR 34629
JMD-009 | Debt Collection Offset Payment System | 6-19-97 | 62 FR 33438
JMD-011 | Office of General Counsel (OGC) Correspondence and Advice Tracking System (CATS) | 9-9-94 | 59 FR 46661
JMD-012 | Department of Justice (DOJ) Call Detail Records | 9-27-96 | 61 FR 50870
JMD-013 | Employee Locator File | 12-11-87 | 52 FR 47270
JMD-014 | Security Access Control System | 1-8-97 | 62 FR 1132
JMD-016 | Employee Assistance Program (EAP) Counseling and Referral Records | 6-09-00 | 65 FR 36718
JMD-017 | Department of Justice (DOJ) Employee Transportation Facilitation System | 11-10-98 | 63 FR 63075
JMD-019 | Freedom of Information/Privacy Act Records | 12-11-87 | 52 FR 47272
JMD-020 | Freedom of Information/Privacy Acts (FOI/PA) Requests Letters | 12-11-87 | 52 FR 47274
ENRD-001 | Appraisers, Approved Attorneys, Abstractors and Title Companies Files Database System | 2-23-00 | 65 FR 8989
LDN-002 | Congressional Correspondence File | 9-30-77 | 42 FR 53351
ENRD-003 | Environment & Natural Resources Division Case & Related Files System | 2-23-00 | 65 FR 8990
LDN-005 | Freedom of Information Act and Privacy Act Records System | 2-4-83 | 48 FR 5363
LDN-006 | Citizens' Mail File | 1-10-80 | 45 FR 2214
NDIC-001 | National Drug Intelligence Center Data Base | 4-26-93 | 58 FR 21995
OAG-001 | General Files System | 9-12-85 | 50 FR 37294
OIG-001 | Office of the Inspector General Investigative Records System | 5-22-00 | 65 FR 32125
OIG-003 | Freedom of Information and Privacy Acts | 10-9-91 | 56 FR 50947
OIG-004 | OIG Employee Training Records | 12-07-99 | 64 FR 68375
OIG-005 | OIG Firearms Qualifications System | 12-07-99 | 64 FR 68376
OIPR-001 | Policy and Operational Records System | 1-26-84 | 49 FR 3281
OIPR-002 | Foreign Intelligence Surveillance Act Records System | 1-26-84 | 49 FR 3282
OIPR-003 | Litigation Records System | 1-26-84 | 49 FR 3284
OIPR-004 | Domestic Security/Terrorism Investigations Records System | 1-26-84 | 49 FR 3284
OJP-001 | Equipment Inventory | 10-5-93 | 58 FR 51879
OJP-004 | Grants Management Information System | 10-17-88 | 53 FR 40526
OJP-005 | Financial Management System | 10-17-88 | 53 FR 40527
OJP-006 | Congressional and Public Affairs System | 12-11-87 | 52 FR 47276
OJP-007 | Public Information System | 11-17-80 | 45 FR 75936
OJP-008 | Civil Rights Investigative System | 10-17-88 | 53 FR 40528
OJP-009 | Federal Advisory Committee Membership Files | 10-17-88 | 53 FR 40529
OJP-010 | Technical Assistance Resource Files | 10-17-88 | 53 FR 40430
OJP-011 | Registered Users File-National Criminal Justice Reference Service (NCJRS) | 10-5-93 | 58 FR 51879
OJP-012 | Public Safety Officers Benefits System | 5-10-99 | 64 FR 25070
OJP-013 | Denial of Federal Benefits Clearinghouse System (DEBAR) | 5-10-99 | 64 FR 25071
OLA-001 | Congressional Committee Chairman Correspondence File | 12-11-87 | 52 FR 47278
OLA-002 | Congressional Correspondence File | 12-11-87 | 52 FR 47278
OLA-003 | Citizen Correspondence File | 12-11-87 | 52 FR 47279
OLC-001 | Attorney Assignment Reports | 9-4-85 | 50 FR 35879
OLC-002 | Office of Legal Counsel Central File | 9-4-85 | 50 FR 35878
OLC-003 | Office of Legal Counsel Freedom of Information Act and Privacy Act Files | 2-28-94 | 59 FR 9497
OLP-001 | Freedom of Information and Privacy Appeals Index | 10-21-85 | 50 FR 42615
OLP-002 | United States Judges Records System | 7-25-85 | 50 FR 30309
OLP-003 | General Files System | 9-12-85 | 50 FR 37299
OLP-004 | Declassification Review Index System | 2-7-86 | 51 FR 4825
OPA-001 | Executive Clemency File | 2-3-93 | 58 FR 6980
OPA-002 | Miscellaneous Correspondence File | 2-3-93 | 58 FR 6981
OPA-003 | Freedom of Information/Privacy Acts (FOI/PA) Request File | 2-3-93 | 58 FR 6982
OPI-001 | News Release, Document and Index System | 9-30-77 | 42 FR 53364
OPR-001 | Office of Professional Responsibility Records Index | 12-10-98 | 63 FR 68299
OPR-002 | Freedom of Information/Privacy Acts (FOI/PA) Records | 12-10-98 | 63 FR 68300
OSC-001 | Central Index File and Associated Records | 10-17-88 | 53 FR 40531
OSC-002 | Files on Correspondence Relating to Immigration-Related, Unfair Employment Practices from Persons Outside the Department of Justice | 10-17-88 | 53 FR 40532
OSC-003 | Special Counsel for Immigration Related Unfair Employment Practices Travel Reports | 9-15-88 | 53 FR 35926
OSC-004 | Freedom of Information; Privacy Act Records | 9-15-88 | 53 FR 35927
OSCW-001 | Caselink Document Database for Office of Special Counsel—Waco | 9-05-00 | 65 FR 53749
PRC-001 | Docket, Scheduling and Control | 12-11-87 | 52 FR 47281
PRC-002 | Freedom of Information Act Record System | 12-11-87 | 52 FR 47282
PRC-003 | Inmate and Supervision Files | 3-10-88 | 53 FR 7313
PRC-004 | Labor and Pension Case, Legal File and General Correspondence System | 10-17-88 | 53 FR 40533
PRC-005 | Office Operation and Personnel System | 10-17-88 | 53 FR 40535
PRC-006 | Statistical, Educational and Developmental System | 12-11-87 | 52 FR 47287
PRC-007 | Workload Record, Decision Result, and Annual Report System | 10-17-88 | 53 FR 40535
TAX-001 | Tax Division Central Classification Cards, Index Docket Cards, and Associated Records—Criminal Tax Cases | 2-20-98 | 63 FR 8659
TAX-002 | Tax Division Central Classification Cards, Index Docket Cards, and Associated Records—Civil Tax Cases | 2-20-98 | 63 FR 8659
TAX-003 | Files of Applications for the Position of Attorney with the Tax Division | 9-30-77 | 42 FR 53390
TAX-004 | Freedom of Information—Privacy Act Request Files | 2-4-83 | 48 FR 5377
TAX-005 | Tax Division Special Projects File | 9-30-77 | 42 FR 53391
USA-001 | Administrative Files | 12-22-83 | 48 FR 56662
USA-002 | A.U.S.A. Applicant Files | 8-23-83 | 48 FR 38329
USA-003 | Citizen Complaint Files | 10-13-89 | 54 FR 42088
USA-004 | Citizen Correspondence Files | 10-13-89 | 54 FR 42089
USA-005 | Civil Case Files | 2-20-98 | 63 FR 8659
USA-006 | Consumer Complaints | 10-13-89 | 54 FR 42090
USA-007 | Criminal Case Files | 2-20-98 12-21-99 | 63 FR 8659 64 FR 71499
USA-008 | Freedom of Information Act/Privacy Act Files | 10-13-89 | 54 FR 42091
USA-009 | Kline District of Columbia and Maryland Stock and Land Fraud Inter-relationship Filing System | 10-13-89 | 54 FR 42093
USA-010 | Major Crimes Division Investigative Files | 10-13-89 | 54 FR 42094
USA-011 | Prosecutor's Management Information System (PROMIS) | 10-13-89 | 54 FR 42095
USA-012 | Security Clearance Forms for Grand Jury Reporters | 2-4-83 | 48 FR 5386
USA-013 | U.S. Attorney, District of Columbia Superior Court Division, Criminal Files | 10-13-89 | 54 FR 42097
USA-014 | Pre-Trial Diversion Program Files | 8-23-83 | 48 FR 38344
USA-015 | Debt Collection Enforcement System | 11-12-93 | 58 FR 60055
USA-016 | Assistant United States Attorney Applicant Records System | 3-10-92 | 57 FR 8487
USA-017 | Appointed Assistant United States Attorneys Personnel System | 3-10-92 | 57 FR 8488
USA-018 | United States Attorneys' Office Giglio Information Files | 12-01-00 | 65 FR 75308
USM-001 | United States Marshals Service Badge and Credentials File | 11-08-99 | 64 FR 60832, 33
USM-002 | United States Marshals Service Internal Inspections System | 11-08-99 | 64 FR 60832, 34
USM-003 | United States Marshals Service Prisoner Transportation System | 9-06-91 | 56 FR 44101
USM-004 | Special Deputation Files | 11-08-99 | 64 FR 60832, 35
USM-005 | U.S. Marshals Service Prisoner Processing and Population Management/Prisoner Tracking System (PPM/PTS) | 11-08-99 | 64 FR 60832, 36
USM-006 | United States Marshals Service Training Files | 11-08-99 | 64 FR 60832, 38
USM-007 | Warrant Information Network (WIN) | 11-08-99 | 64 FR 60832, 39
USM-008 | Witness Security Files Information System | 11-08-99 | 64 FR 60832, 40
USM-009 | Inappropriate Communications/Threat Information System | 11-08-99 | 64 FR 60832, 41
USM-010 | Judicial Facility Security Index System | 11-08-99 | 64 FR 60832, 42
USM-011 | Judicial Protection Information System | 11-08-99 | 64 FR 60832, 43
USM-012 | U.S. Marshals Service Freedom of Information/Privacy Act (FOIA/PA) File | 11-08-99 | 64 FR 60832, 44
USM-013 | U.S. Marshals Service Administration Pro-ceedings, Claims and Civil Litigation Files | 11-08-99 | 64 FR 60832, 45
USM-014 | Joint Automated Booking Stations (JABS) | 4-13-95 | 60 FR 18853
USM-015 | U.S. Marshals Service (USMS) Employee Assistance Program (EAP) Records | 11-08-99 | 64 FR 60832, 47
USM-016 | U.S. Marshals Service (USMS) Key Control Records System | 11-08-99 | 64 FR 60832, 48
USM-017 | Judicial Security Staff Inventory | 11-08-99 | 64 FR 60849, 50
USM-018 | Alternative Dispute Resolution (ADR) Files and Database Tracking System | 11-08-99 | 64 FR 60849, 51
UST-001 | Bankruptcy Case Files and Associated Records | 9-23-99 | 64 FR 51557
UST-002 | Trustee File | 9-23-99 | 64 FR 51557, 59
UST-003 | U.S. Trustee Timekeeping System | 7-26-99 | 64 FR 40392
UST-004 | United States Trustee Program Case Referral System | 9-23-99 | 64 FR 51557, 59

The Department has modified all of its systems of records to include a new routine use that allows disclosure to former employees for purposes of responding to official inquiries by government entities or professional licensing authorities in accordance with the Department's regulation governing access under such circumstances, 28 CFR 16.300-01. The new routine use also allows disclosure to former employees when the Department requires information and/or consultation assistance from the former employee that is necessary for personnel-related or other official purposes regarding a matter within that person's former area of responsibility.

In accordance with 5 U.S.C. 552a(e)(4) and (11), the public is given a 30-day period in which to comment; and the Office of Management and Budget (OMB), which has oversight responsibility under the Privacy Act, requires a 40-day period in which to conclude its review of the system. Therefore, please submit any comments by March 2, 2001. The public, OMB, and the Congress are invited to submit any comments to Mary E. Cahill, Management and Planing Staff, Justice Management Division, United States Department of Justice, Washington, DC 20530-0001 (room 1400, National Place Building).

A description of the modification to the Department's systems of records is provided below. In accordance with 5 U.S.C. 552a(r), the Department has provided a report to OMB and the Congress.

Dated: January 8, 2001.
Stephen R. Colgate,
Assistant Attorney General for Administration.

DOJ Privacy Act Systems of Records

AAG-001 General Files Systems

ATR-001 Antitrust Division Expert Witness File

ATR-002 Congressional and White House Referral Correspondence Log File

ATR-003 Index of Defendants in Pending and Terminated Antitrust Cases

ATR-004 Statements by Antitrust Division Officials (ATD Speech File)

ATR-005 Antitrust Caseload Evaluation System (ACES)—Time Reporter

ATR-006 Antitrust Caseload Evaluation System (ACES)—Monthly Report

ATR-007 Antitrust Division Case Cards

ATR-008 Freedom of Information/Privacy Requestor Subject Index File

ATR-009 Public Complaints and Inquiries File

ATR-014 Civil Investigative Demand (CID) Tracking System

BIA-001 Decisions of the Board of Immigration Appeals

BIA-002 Roster of Organizations and their Accredited, Representatives Recognized by the Board of Immigration Appeals

BOP-001 Custodial and Security Record System

BOP-002 Freedom of Information Act Record System

BOP-003 Industrial Inmate Employment Record System

BOP-004 Inmate Administrative Remedy Record System

BOP-005 Inmate Central Records System

BOP-006 Inmate Commissary Accounts Record System

BOP-007 Inmate Physical and Mental Health Record System

BOP-008 Inmate Safety and Accident Compensation Record System

BOP-009 Federal Tort Claims Act Record System

BOP-010 Access Control Entry/Exit System

BOP-011 Telephone Activity Record System

BOP-012 Office of Internal Affairs Investigative Records

BOP-014 Employee Assistance Program (EAP) Record System

BOP-101 The National Institute of Corrections Technical Resource Provider Record System

BOP-102 The National Institute of Corrections Field Readers List

BOP-103 National Institute of Corrections Academy Record System

BOP-104 National Institute of Corrections Mailing List & Information Center Contacts Records System

CIV-001 Civil Division Case File System

CIV-002 Civil Division Case File System: Customs Litigation

CIV-003 Office of Alien Property File System

CIV-004 Swine Flu Administrative Claim File System

CIV-005 Freedom of Information/Privacy Acts File System

CIV-006 Consumer/Inquiry Investigatory System

CIV-007 Congressional and Citizen Correspondence File

COPS-001 Police Corps System

CRM-001 Central Criminal Division Index File and Associated Records

CRM-002 Criminal Division Witness Security File

CRM-003 File of Names Checked to Determine if those Individuals Have Been The Subject of an Electronic Surveillance

CRM-004 General Crimes Section, Criminal Division, Central Index File and Associated Records

CRM-005 Index to Names of Attorneys Employed by the Criminal Division, U.S. Department of Justice, Indicating the Subject of the Memoranda on Criminal Matters They Have Written

CRM-006 Information File on Individuals and Commercial Entities Known or Suspected of Being Involved in Fraudulent Activities

CRM-007 Name Card File on Criminal Division Personnel Authorized to have Access to the Central Criminal Division Records

CRM-008 Name Card File on Department of Justice Personnel Authorized to have Access to the Classified Files of the Department of Justice

CRM-012 Organized Crime and Racketeering Section, General Index File and Associated Records

CRM-014 Organized Crime and Racketeering Section, Intelligence and Special Services Unit, Information Request System

CRM-017 Registration and Propaganda Files Under the Foreign Agents Registration Act of 1938, As Amended

CRM-018 Registration Files of Individuals Who Have Knowledge of or Have Received Instruction or Assignment in Espionage, Counterespionage, or Sabotage Service or Tactics of a Foreign Government or of a Foreign Political Party

CRM-019 Requests to the Attorney General for Approval of Applications to Federal Judges for Electronic Interceptions

CRM-021 The Stocks and Bonds Intelligence Control Card File System

CRM-022 Witness Immunity Records

CRM-023 Weekly Statistical Report

CRM-024 Freedom of Information/Privacy Act Records

CRM-025 Tax Disclosure Index File and Associated Records

CRM-026 Index of Prisoners Transferred Under Prisoner Transfer Treaties

CRM-027 Office of Special Investigation (OSI) Displaced Persons Listings

CRS-001 Operational Data Information System

CRT-001 Central Civil Rights Division Index File and Associated Records

CRT-002 Files of Applications for the Position of Attorney with the Civil Rights Division

CRT-003 Civil Rights Case Load Evaluation System—Time Reporting System

CRT-004 Registry of Names of Interested Persons Desiring Notifications of Submissions Under Section 5 of the Voting Rights Act

CRT-007 Files on Employment Civil Rights Matters Referred by the Equal Employment Opportunity Commission

CRT-008 Files on Correspondence Relating to Civil Rights Matters from persons Outside the Department of Justice

CRT-009 Civil Rights Division Travel Reports

CRT-010 Freedom of Information; Privacy Act Records

DAG-003 Drug Enforcement Task Force Evaluation Reporting System

DAG-004 Honor Program Applicant System

DAG-005 Master Index File of Names

DAG-006 Presidential Appointee Candidate Records System

DAG-007 Presidential Appointee Records System

DAG-008 Special Candidates for Presidential Appointments and Noncareer SES Positions Records System

DAG-009 Summer Intern Program Records System

DAG-010 United States Judge and Department of Justice Presidential Appointee Records

DAG-011 Miscellaneous Attorney Personnel Records

DAG-012 Executive Secretariat Correspondence Control System

DAG-013 General Files System

DEA-001 Air Intelligence Program

DEA-INS-111 Automated Intelligence Records System (Pathfinder)

DEA-003 Automated Records and Consolidated Orders System/Diversion Analysis and Detection System (ARCOS/DADS)

DEA-004 Congressional Correspondence File

DEA-005 Controlled Substances Act Registration Records (CSA)

DEA-006 Freedom of Information/Privacy Act Records

DEA-008 Investigative Reporting and Filing System

DEA-010 Planning and Inspection Division Records

DEA-011 Operations Files

DEA-012 Registration Status/Investigation Records

DEA-013 Security Files

DEA-015 Training Files

DEA-017 Grants of Confidentiality Files (GCF)

DEA-020 Essential Chemical Reporting System

DEA-021 DEA Aviation Unit Reporting System

DOJ-001 Accounting Systems for the Department of Justice

DOJ-002 DOJ Computer Systems Activity & Access Records

EOIR-001 Records and Management Information System

EOIR-003 Practitioner Complaint/Disciplinary Files

FBI-001 National Crime Information Center (NCIC)

FBI-002 The FBI Center Records System

FBI-003 Bureau Mailing Lists

FBI-006 Electronic Surveillance (Elsur) Indices

FBI-007 FBI Automated Payroll System

FBI-008 Personnel Information Network System (PINS)

FBI-009 Fingerprint Identification Records System (FIRS)

FBI-010 Employee Travel Vouchers and Individual Earning Records

FBI-011 Employee Health Records

FBI-012 Time Utilization Record-Keeping (TURK) System

FBI-013 Security Access Control System (SACS)

FBI-014 FBI Alcoholism Program

FBI-015 National Center for the Analysis of Violent Crime (NCAVC)

FBI-016 FBI Counterdrug Information Indices System (CIIS)

FBI-017 National DNA Index System (NDIS)

FBI-018 National Instant Criminal Background Check System (NICS)

INS-001 The Immigration and Naturalization Service Index System

INS-001A The Immigration and Naturalization Service (INS) Alien File (A-File) and Central Index System (CIS)

INS-002 Office of Internal Audit Investigations Index and Records

INS-004 The Asset Management Information System (AMIS)

INS-007 Orphan Petitioner Index and Files

INS-008 Bond Management Information System (BMIS)

INS-009 Alien Status Vertification Index

INS-010 Freedom of Information Act/Privacy Act (FOIA/PA) Case Tracking and Reporting System

INS-011 The Password Issuance and Control System (PICS)

INS-012 Deportable Alien Control System (DACS)

INS-013 Computer Linked Application Information Management System

INS-014 Security Access Control System (SACS)

INS-015 Port of Entry Office Management Support System

INS-016 Secondary Verification Automated LOG (SVAL)

INS-017 Global Enrollment System (GES)

INS-019 Employee Assistance Program (EAP) Treatment Referral Records

INS-021 Designated Entity Information Management System (DEIMS)

INS-022 INS Attorney/Representative Complaint/Petition Files

INS-023 Law Enforcement Support Center Database (LESC)

INS-024 The FD-258 Fingerprint Tracking System

INS-025 Worksite Enforcement Activity Record & Index (LYNX)

INS-026 Hiring Tracking System

INTERPOL-001 THE INTERPOL-United States National Central Bureau (INTERPOL-USNCB) (Department of Justice) INTERPOL-USNCB Records System

JMD-001 Background Investigation Check-off Card

JMD-002 Controlled Substances Act Nonpublic Records

JMD-003 Department of Justice Payroll System

JMD-005 Grievance Records

JMD-006 Debt Collection Management System

JMD-007 Accounting System for the Offices, Boards and Divisions and the United States Marshals Service

JMD-008 Security Clearance Information System (SCIS)

JMD-009 Debt Collection Off-set Payment System

JMD-011 Office of General Counsel (OGC) Correspondence and Advice Tracking System (CATS)

JMD-012 Department of Justice (DOJ) Call Detail Records

JMD-013 Employee Locator File

JMD-014 Security Access Control System

JMD-016 Employee Assistance Program (EAP) Counseling and Referral Records

JMD-017 Department of Justice (DOJ) Employee Transportation Facilitation System

JMD-019 Freedom of Information/Privacy Act Records

JMD-020 Freedom of Information/Privacy Acts (FOI/PA) Requests Letters

ENRD-001 Appraisers, Approved Attorneys, Abstractors and Title Companies Files Database System

LDN-002 Congressional Correspondence File

ENRD-003 Environment & Natural Resources Division Case & Related Files System

LDN-005 Freedom of Information Act and Privacy Act Records System

LDN-006 Citizens' Mail File

NDIC-001 National Drug Intelligence Center Data Base

OAG-001 General Files System

OIG-001 Office of the Inspector General Investigative Records System

OIG-003 Freedom of Information and Privacy Acts

OIG-004 OIG Employee Training Records

OIG-005 Firearms Qualificiations System

OIPR-001 Policy and Operational Records System

OIPR-002 Foreign Intelligence Surveillance Act Records System

OIPR-003 Litigation Records System

OIPR-004 Domestic Security/Terrorism Investigations Records System

OJP-001 Equipment Inventory

OJP-004 Grants Management Information System

OJP-005 Financial Management System

OJP-006 Congressional and Public Affairs System

OJP-007 Public Information System

OJP-008 Civil Rights Investigative System

OJP-009 Federal Advisory Committee Membership Files

OJP-010 Technical Assistance Resource Files

OJP-011 Registered Users File—National Criminal Justice Reference Service (NCJRS)

OJP-012 Public Safety Officers Benefits System

OJP-013 Denial of Federal Benefits Clearinghouse System (DEBAR)

OLA-001 Congressional Committee Chairman Correspondence File

OLA-002 Congressional Correspondence File

OLA-003 Citizen Correspondence File

OLC-001 Attorney Assignment Reports

OLC-002 Office of Legal Counsel Central File

OLC-003 Office of Legal Counsel Freedom of Information Act and Privacy Act Files

OLP-001 Freedom of Information and Privacy Appeals Index

OLP-002 United States Judges Records System

OLP-003 General Files System

OLP-004 Declassification Review Index System

OPA-001 Executive Clemency File

OPA-002 Miscellaneous Correspondence File

OPA-003 Freedom of Information/Privacy Acts (FOI/PA) Request File

OPI-001 News Release, Document and Index System

OPR-001 Office of Professional Responsibility Records Index

OPR-002 Freedom of Information/Privacy Acts (FOI/PA) Records

OSC-001 Central Index File and Associated Records

OSC-002 Files on Correspondence Relating to Immigration-Related, Unfair Employment Practices from Persons Outside the Department of Justice

OSC-003 Special Counsel for Immigration Related Unfair Employment Practices Travel Reports

OSC-004 Freedom of Information; Privacy Act Records

OSCW-001 Caselink Document Database for Office of Special Counsel—Waco

PRC-001 Docket, Scheduling and Control

PRC-002 Freedom of Information Act Record System

PRC-003 Inmate and Supervision Files

PRC-004 Labor and Pension Case, Legal File and General Correspondence System

PRC-005 Office Operation and Personnel System

PRC-006 Statistical, Educational and Developmental System

PRC-007 Workload Record, Decision Result, and Annual Report System

TAX-001 Tax Division Central Classification Cards, Index Docket Cards, and Associated Records—Criminal Tax Cases

TAX-002 Tax Division Central Classification Cards, Index Docket Cards, and Associated Records—Civil Tax Cases

TAX-003 Files of Applications for the Position of Attorney with the Tax Division

TAX-004 Freedom of Information—Privacy Act Request Files

TAX-005 Tax Division Special Projects File

USA-001 Administrative Files

USA-002 A.U.S.A. Applicant Files

USA-003 Citizen Complaint Files

USA-004 Citizen Correspondence Files

USA-005 Civil Case Files

USA-006 Customer Complaints

USA-007 Criminal Case Files

USA-008 Freedom of Information Act/Privacy Act Files

USA-009 Kline District of Columbia and Maryland Stock and Land Fraud Interrelationship Filing System

USA-010 Major Crimes Division Investigative Files

USA-011 Prosecutor's Management Information System (PROMIS)

USA-012 Security Clearance Forms for Grand Jury Reporters

USA-013 U.S. Attorney, District of Columbia Superior Court Division, Criminal Files

USA-014 Pre-Trial Diversion Program Files

USA-015 Debt Collection Enforcement System

USA-016 Assistant United States Attorney Applicant Records System

USA-017 Appointed Assistant United States Attorneys Personnel System

USA-018 United States Attorneys' Office Giglio Information Files

USM-001 United States Marshals Service Badge and Credentials File

USM-002 United States Marshals Service Internal Inspections System

USM-003 United States Marshals Service Prisoner Transportation System

USM-004 Special Deputation Files

USM-005 U.S. Marshals Service Prisoner Processing and Population Management/Prisoner Tracking System (PPM/PTS)

USM-006 United States Marshals Service Training Files

USM-007 Warrant Information Network (WIN)

USM-008 Witness Security Files Information System

USM-009 Inappropriate Communications/Threat Information System

USM-010 Judicial Facility Security Index System

USM-011 Judicial Protection Information System

USM-012 U.S. Marshals Service Freedom of Information/Privacy Act (FOI/PA) File

USM-013 U.S. Marshals Service Administration Proceedings, Claims and Civil Litigation Files

USM-014 Joint Automated Booking Stations (JABS)

USM-015 U.S. Marshals Service (USMS) Employee Assistance Program (EAP) Records

USM-016 U.S. Marshals Service (USMS) Key Control Record System

USM-017 Judicial Security Staff Inventory

USM-018 Alternative Dispute Resolution (ADR) Files and Database Tracking System

UST-001 Bankruptcy Case Files and Associated Records

UST-002 Trustee File

UST-003 U.S. Trustee Timekeeping System

UST-004 United States Trustee Program Case Referral System

* * * * *

Routine Uses of Records Maintained in the System, Including Categories of Users and the Purposes of Such Uses

Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

* * * * *

[FR Doc. 01-2397 Filed 1-30-01; 8:45 am]

BILLING CODE 4410-FB-M